DEPARTMENT OF TRANSPORTATION

Federal Railroad Administration

[Docket Number FRA-2024-0100]

Petition for Waiver of Compliance

Under part 211 of title 49 Code of Federal Regulations (CFR), this document provides the public notice that on August 26, 2024, Metro-North Railroad (Metro-North) petitioned the Federal Railroad Administration (FRA) for a waiver of compliance from certain provisions of the Federal railroad safety regulations contained at 49 CFR part 229 (Railroad Locomotive Safety Standards). FRA assigned the petition Docket Number FRA-2024-0100.

Specifically, Metro-North requests relief from § 229.136(f)(3), Locomotive image and audio recording devices—Recording uses, which states the situations in which image and audio recordings from a locomotive “in commuter or intercity passenger service” can be used. Metro-North seeks to use the recordings for training and safety videos.

In support of its request, Metro-North states that it has used the recordings from “outward facing video and inward facing video and audio systems” “in manners that provide significant safety benefits to the railroad, and its passengers” since 2017. Further, Metro-North intends that the recordings will be “provided for enhanced training presentations, more meaningful and impactful safety messaging regarding incidents and near[-]misses, and individual employee training opportunities.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 23, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-24457 Filed 10-21-24; 8:45 am]

BILLING CODE 4910-06-P